DEPARTMENT OF COMMERCE

Bureau of the Census

15 CFR Chapter I

[Docket Number 160526465-6618-02]

Proposed 2020 Census Residence Criteria and Residence Situations; Extension of Comment Period

AGENCY: Bureau of the Census, Department of Commerce.

ACTION: Proposed Criteria; Extension of Comment Period.

SUMMARY: The Bureau of the Census (Census Bureau) is issuing this document to extend the comment period on the Proposed 2020 Census Residence Criteria and Residence Situations, which was published in the Federal Register on June 30, 2016. The comment period for the proposed criteria, which would have ended on August 1, 2016, is now extended until September 1, 2016.

DATES: Comments on the proposed criteria published on June 30, 2016 (81 FR 42577), must be received by September 1, 2016.

ADDRESSES: Direct all written comments regarding the Proposed 2020 Census Residence Criteria and Residence Situations to Karen Humes, Chief, Population Division, U.S. Census Bureau, Room 6H174, Washington, DC 20233; or Email [POP.2020.Residence.Rule@census.gov].

FOR FURTHER INFORMATION CONTACT: Population and Housing Programs Branch, U.S. Census Bureau, 6H185, Washington, DC 20233, telephone (301) 763-2381; or Email [POP.2020.Residence.Rule@census.gov].

SUPPLEMENTARY INFORMATION:

Background

The U.S. Census Bureau is committed to counting every person in the 2020 Census once, only once, and in the right place. The fundamental reason that the decennial census is conducted is to fulfill the Constitutional requirement (Article I, Section 2) to apportion the seats in the U.S. House of Representatives among the states. Thus, for a fair and equitable apportionment, it is crucial that the Census Bureau counts everyone in the right place during the decennial census.

The residence criteria are used to determine where people are counted during each decennial census. For more information on the Proposed 2020 Census Residence Criteria and Residence Situations (also referred to as the proposed “2020 Census Residence Rule and Residence Situations” in the text of the earlier document), please see the original document of proposed criteria and request for comment published in the Federal Register on June 30, 2016 (81 FR 42577).

Because of the scope of the proposed criteria, and in response to individuals and organizations who have requested more time to review the proposed criteria, the Census Bureau has decided to extend the comment period for an additional 31 days. This document announces the extension of the public comment period to September 1, 2016.

Dated: July 19, 2016.
Nancy A. Potok,
Deputy Director, Bureau of the Census.

[FR Doc. 2016-17484 Filed 7-22-16; 8:45 am]

BILLING CODE 3510-07-P